DEPARTMENT OF COMMERCE

National Oceanic and Atmospheric Administration

Science Advisory Board

AGENCY: National Oceanic and Atmospheric Administration (NOAA), Department of Commerce (DOC).

ACTION: Notice of public meetings.

SUMMARY: This notice sets forth the schedule and proposed agenda of two meetings of the Science Advisory Board (SAB). The members will discuss issues outlined in the section on Matters to be considered.

DATES: There are two meetings: The first meeting is scheduled for April 23, 2019 from 8:30 a.m. to 5:45 p.m. Eastern Daylight Time (EDT) and April 24, 2019 from 8:30 a.m. to 12:00 p.m. EDT. The second meeting is scheduled for July 10, 2019, from 8:00 a.m. to 5:00 p.m. Pacific Daylight Time (PDT) and July 11, 2019 from 8:00 a.m. to 12:00 p.m. PDT. These times and the agenda topics described below are subject to change. For the latest agenda please refer to the SAB website: http://sab.noaa.gov/SABMeetings.aspx.

ADDRESSES: The April 23-24, 2019 meeting will be at the Hilton Garden Inn, 2201 M St NW, Washington, DC 20037. The July 10-11, 2019 meeting will at the Hyatt Regency Seattle, 8008 Howell Street, Seattle, WA 98101. The link for the webinar registration for the April 23-24, 2019 meeting may be found here: https://attendee.gotowebinar.com/register/7212839555782655746.

The link for the July 10-11, 2019 meeting will be posted on the SAB website when available.

FOR FURTHER INFORMATION CONTACT: Dr. Cynthia Decker, Executive Director, SSMC3, Room 11230, 1315 East-West Hwy., Silver Spring, MD 20910; Phone Number: 301-734-1156; email: Cynthia.Decker@noaa.gov; or visit the SAB website at http://sab.noaa.gov/SABMeetings.aspx.

SUPPLEMENTARY INFORMATION: The NOAA Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Status: The April 23-24, 2019 meeting will be open to public participation with a 15-minute public comment period at 5:30 p.m. EDT. The July 10-11, 2019 meeting will have a 15-minute public comment period at 4:45 p.m. PDT. The SAB expects that public statements presented at its meetings will not be repetitive of previously submitted verbal or written statements. In general, each individual or group making a verbal presentation will be limited to a total time of three minutes. Written comments for the April 23-24, 2019 meeting should be received by April 14, 2019 and written comments for the July 10-11, 2019 meeting should be received in the SAB Executive Director's Office by July 3, 2019 to provide sufficient time for SAB review. Written comments received by the SAB Executive Director after these dates will be distributed to the SAB, but may not be reviewed prior to the meeting date.

Special Accommodations: These meetings are physically accessible to people with disabilities. Requests for special accommodations may be directed to the Executive Director no later than 12 p.m. on April 9 for the April 23-24, 2019 meeting and by no later than 12 p.m. on May 26 for the July 10-11, 2019 meeting.

Matters to be Considered: The meeting on April 23-24, 2019 will include the NOAA Update, NOAA Science Update, Presentation of the Sustainable Marine Aquaculture report, Presentation of the Environmental Information Services Working Group (EISWG) Report on the Use of Observing System Simulation Experiments (OSSEs), and Presentation of the Environmental Information Services Working Group (EISWG) Annual Report to Congress, The July 10-11, 2019 meeting will consider updates and reports on topics contained in the SAB Work Plan. Meeting materials, including work products, will be made available on the SAB website: http://sab.noaa.gov/SABMeetings.aspx.

Dated: March 12, 2019.
David Holst,
Chief Financial Officer/Administrative Officer, Office of Oceanic and Atmospheric Research, National Oceanic and Atmospheric Administration.

[FR Doc. 2019-06300 Filed 3-29-19; 8:45 am]

BILLING CODE 3510-KD-P